DEPARTMENT OF THE INTERIOR

National Park Service

[N6756; NPS-WASO-NAGPRA-NPS0041519; PPWOCRADN0-PCU00RP14.R50000]

Notice of Intended Repatriation: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History (SNOMNH) intends to repatriate certain cultural items that meet the definition of sacred objects and that have a cultural affiliation with the Indian Tribes or Native Hawaiian organizations in this notice.

DATES: Repatriation of the cultural items in this notice may occur on or after January 20, 2026.

ADDRESSES: Send additional, written requests for repatriation of the cultural items in this notice to Zachary Garrett, NAGPRA Program Coordinator, Sam Noble Oklahoma Museum of Natural History, University of Oklahoma, 2401 Chautauqua Avenue, Norman, OK 73072-7029, email zacgarrett@ou.edu.

SUPPLEMENTARY INFORMATION: This notice is published as part of the National Park Service's administrative responsibilities under NAGPRA. The determinations in this notice are the sole responsibility of SNOMNH, and additional information on the determinations in this notice, including the results of consultation, can be found in the summary or related records. The National Park Service is not responsible for the determinations in this notice.

Abstract of Information Available

A total of 13 cultural items have been requested for repatriation. The 13 sacred objects are prayer offerings. These objects were removed from a shrine site, likely LA 46316, in Valencia County, NM. The site is located on land owned by the Pueblo of Laguna, New Mexico. These objects were removed from the site by Harmon Maxon (a University of New Mexico student) of Santa Fe, who later gave them to a University of Oklahoma professor, who in turn donated them to SNOMNH. Official representatives of the Pueblo of Acoma and Pueblo of Laguna reviewed these objects in person and identified and confirmed that they are sacred objects and culturally affiliated with the Pueblo of Acoma and Pueblo of Laguna.

In the past, hazardous substances were used to treat the Ethnology Collection at SNOMNH. The Ethnology Collection in part or whole was exposed to Paradichlorobenzene (PBD in textile storage-discontinued around or before 1981), Naphthalene (moth flake packets stored with textiles-discontinued around 1985), and Vapona (no-pest-strips (active ingredient: Dichlorvos DDVP) and pyrethrins, placed in cases with objects, discontinued around 1986). None of these products were ever in direct contact with objects. Any potential treatments of these objects by donors are unknown. The building where the Ethnology collection was previously stored was subject to fumigation multiple times per year from 1983-1985, using Vapo-Mist 500, 5% Vapona Insecticide (active ingredient was dichlorovinyl dimethyl phosphate (DDVP), and also contained petroleum distillates and 1,1,1-trichloethane). Chemical remnants may have remained present in objects, as well as museum cabinets and other furniture used to store collections.

Determinations

SNOMNH has determined that:

• The 13 sacred objects described in this notice are specific ceremonial objects needed by a traditional Native American religious leader for present-day adherents to practice traditional Native American religion, according to the Native American traditional knowledge of a lineal descendant, Indian Tribe, or Native Hawaiian organization.

• There is a connection between the cultural items described in this notice and the Pueblo of Acoma, New Mexico and the Pueblo of Laguna, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, SNOMNH must determine the most appropriate requestor prior to repatriation. Requests for joint repatriation of the cultural items are considered a single request and not competing requests. SNOMNH is responsible for sending a copy of this notice to the Indian Tribes and Native Hawaiian organizations identified in this notice and to any other consulting parties.

Authority: Native American Graves Protection and Repatriation Act, 25 U.S.C. 3004 and the implementing regulations, 43 CFR 10.9.

Dated: December 3, 2025.
Melanie O'Brien,
Manager, National NAGPRA Program.

[FR Doc. 2025-23198 Filed 12-17-25; 8:45 am]

BILLING CODE 4312-52-P